FEDERAL MARITIME COMMISSION

Notice of Agreement Filed

The Commission hereby gives notice of the filing of the following agreement under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 201196-001.

Title: Los Angeles and Long Beach Marine Terminal Agreement.

Parties: City of Los Angeles and City of Long Beach.

Filing Party: Matthew J. Thomas, Esq.; Troutman Sanders LLP; 401 9th Street, NW., Suite 1000; Washington, DC 20004.

Synopsis: The amendment adds a definition for “Early Replacement Drayage Trucks” and amends the definition of “Program Funds,” simplifies the wording regarding the installation of RFID or OCR readers, extends the deadline for access for pre-1989 model year drayage trucks that are registered as being replaced by Early Replacement Drayage Trucks, clarifies the size of containers subject to clean truck fee, adds an exception for defense cargo, and clarifies that the Ports may assess more than one type of concession fee.

By Order of the Federal Maritime Commission.
Dated: October 31, 2008.
Karen V. Gregory,
Secretary.

[FR Doc. E8-26399 Filed 11-4-08; 8:45 am]

BILLING CODE 6730-01-P